DEPARTMENT OF HEALTH AND HUMAN SERVICES

National Institutes of Health

Center for Scientific Review; Amended Notice of Meeting

Notice is hereby given of a change in the meeting of the Instrumentation and Systems Development Study Section, October 4, 2022, 6:30 a.m. to October 5, 6:00 p.m., Doubletree Hotel Bethesda (Formerly Holiday Inn Select), 8120 Wisconsin Avenue, Bethesda, MD 20814, which was published in the Federal Register on September 07, 2022, 87 FR 54706, Doc 2022-19211.

This meeting is being amended to change the start time from 6:30 a.m. to 8:00 a.m. and the name of the hotel from the Doubletree Hotel Bethesda to The Bethesdan Hotel, Tapestry Collection by Hilton. The address remains unchanged. The meeting is closed to the public.

Dated: September 22, 2022.
Miguelina Perez,
Program Analyst, Office of Federal Advisory Committee Policy.

[FR Doc. 2022-21081 Filed 9-28-22; 8:45 am]

BILLING CODE 4140-01-P